NATIONAL AERONAUTICS AND SPACE ADMINISTRATION

48 CFR Parts 1812, 1819, and 1852

NASA Federal Acquisition Regulation Supplement

AGENCY: National Aeronautics and Space Administration.

ACTION: Final rule; technical amendments.

SUMMARY: NASA is making technical amendments to the NASA FAR Supplement (NFS) to provide needed editorial changes.

DATES: Effective: March 1, 2016.

FOR FURTHER INFORMATION CONTACT: Manuel Quinones, NASA, Office of Procurement, Contract and Grant Policy Division, via email at manuel.quinones@nasa.gov, or telephone (202) 358-2143.

SUPPLEMENTARY INFORMATION:

I. Background

As part NASA's retrospective review of existing regulations pursuant to section 6 of Executive Order 13563, Improving Regulation and Regulatory Review, NASA conducted a review of it regulations and noted several minor inconsistencies requiring correction. A summary of changes follows:

• Revise section 1812.301(G) to match clause title at 1852.219-75.

• Revise section 1819.708-70 match clause title at 1852.219-75.

• Revise section 1852.235-73(b) to update title of the regulation NPR 2200.2.

List of Subject in 48 CFR Parts 1812, 1819, and 1852

Government procurement.

Manuel Quinones,
NASA FAR Supplement Manager.

Accordingly, 48 CFR parts 1812, 1819, and 1852 are amended as follows:

1. The authority citation for parts 1812 and 1819 is revised to read as follows:

Authority: 51 U.S.C. 20113(a) and 48 CFR chapter 1.

PART 1812—ACQUISITION OF COMMERCIAL ITEMS

1852.301 [Amended]

2. Amend 1812.301(f)(i)(G) by removing the words “Small Business Subcontracting Reporting” and adding “Individual Subcontracting Reports” in their place.

PART 1819—SMALL BUSINESS PROGRAMS

1819.708-70 [Amended]

3. Amend section 1819.708-70(b) by removing the words “Individual Subcontracts Reporting” and adding “Individual Subcontracting Reports” in their place.

PART 1852—SOLICITATION PROVISIONS AND CONTRACT CLAUSES

4. The authority citation for part 1852 continues to read as follows:

Authority: 51 U.S.C. 20113(a) and 48 CFR chapter 1.

1852.235-73 [Amended]

5. Amend section 1852.235-73(b) by removing the words “NPR 2200.2, Guidelines” and adding “NPR 2200.2, Requirements” in their place.

[FR Doc. 2016-04444 Filed 2-29-16; 8:45 am]

BILLING CODE 7510-13-P